DEPARTMENT OF HEALTH AND HUMAN SERVICES

Health Resources and Services Administration Advisory Council; Notice of Meeting

In accordance with section 10(a)(2) of the Federal Advisory Committee Act (Public Law 92-463), announcement is made of the following National Advisory body scheduled to meet during the month of January 2001.

Name: National Advisory Council on Nurse Education and Practice (NACNEP).

Date and Time: January 11, 2001; 8:30 a.m.-5:00 p.m., January 12, 2001; 8:30 a.m.-3:00 p.m.

Place: Washington Monarch Hotel, 2401 M Street, N.W., Washington, DC 20037.

The meeting is open to the public.

Agenda: Updates and discussion of Department, Agency, Bureau and Division activities, and the legislative and budget status of programs; status of COGME/NACNEP joint report on “Collaborative Education to Ensure Patient Safety”; discussion of the National Sample Survey 2000 report; presentation and panel discussion of national and regional nursing workforce issues; status of funding allocation methodology contract; and Council strategic planning workgroups on Workforce and Practice.

Anyone interested in obtaining a roster of members, minutes of the meeting, or other relevant information should write or contact Ms. Elaine G. Cohen, Executive Secretary, National Advisory Council on Nurse Education and Practice, Parklawn Building, Room 9-35, 5600 Fishers Lane, Rockville, Maryland 20857, telephone (301) 443-5786.

Dated: December 7, 2000.
Jane M. Harrison,
Director, Division of Policy Review and Coordination.

[FR Doc. 00-31701 Filed 12-12-00; 8:45 am]

BILLING CODE 4160-15-P